DEPARTMENT OF COMMERCE

International Trade Administration

[A-570-868]

Folding Metal Tables and Chairs from the People's Republic of China: Notice of Extension of Time Limit for the Final Results of the Antidumping Duty Administrative Review

AGENCY: Import Administration, International Trade Administration, Department of Commerce.

EFFECTIVE DATE: November 10, 2005.

FOR FURTHER INFORMATION CONTACT: Charles Riggle at (202) 482-0650 or Marin Weaver at (202) 482-2336, AD/CVD Operations, Office 8, Import Administration, International Trade Administration, U.S. Department of Commerce, 14th Street and Constitution Avenue, NW, Washington, DC 20230.

SUPPLEMENTARY INFORMATION:

Background

On July 11, 2005, the Department of Commerce (“the Department”) published the preliminary results of the administrative review of the antidumping duty order on folding metal tables and chairs from the People's Republic of China (“PRC”). See Folding Metal Tables and Chairs from the People's Republic of China: Notice of Preliminary Results of Antidumping Duty Administrative Review, 70 FR 39726 (July 11, 2005). The Department is extending the time limit for the final results of the administrative review of the antidumping duty order on folding metal tables and chairs from the PRC. This review covers the period June 1, 2003, through May 31, 2004.

Extension of Time Limit for Final Results of Review

Section 751(a)(3)(A) of the Tariff Act of 1930, as amended (“the Act”) states that if it is not practicable to complete the review within the time specified, the administering authority may extend the 120-day period, following the date of publication of the preliminary results, to issue its final results by an additional 60 days. Completion of the final results within the 120-day period is not practicable for the following reasons: (1) The review involves a large number of complex inventory reconciliations of a respondent's raw material, components and finished stock warehouses, and its work in process; and (2) Due to the unknown number of purported sample transactions for New-Tec Integration (Xiamen) Co., Ltd. at the time of the preliminary results, the Department issued multiple supplemental questionnaires after the preliminary results of review, which the Department now needs to review and subsequently adjust its schedule for this review.

Therefore, in accordance with section 751(a)(3)(A) of the Act, the Department is extending the time period for issuing the final results of review by 60 days until January 7, 2006. Additionally, the Department will notify all parties once it has established the briefing schedule.

This notice is published in accordance with sections 751(a)(3)(A) and 777(i) of the Act.

Dated: November 3, 2005.
Stephen J. Claeys,
Deputy Assistant Secretary for Import Administration.

[FR Doc. 05-22489 Filed 11-9-05; 8:45 am]

BILLING CODE 3510-DS-S